FEDERAL RETIREMENT THRIFT INVESTMENT BOARD

Sunshine Act Meeting; Notice of Board Member Meeting

Federal Retirement Thrift Investment Board

October 31, 2016

77 K Street NE., 10th Floor Board Room, Washington, DC 20002.

Agenda

Federal Retirement Thrift Investment Board Member Meeting

October 31, 2016

In-Person, 8:30 a.m.

Open Session

1. Approval of the minutes for the September 19, 2016 Board Member Meeting

2. Monthly Reports

(a) Participant Activity Report

(b) Legislative Report

(c) Investment Performance and Policy Report

3. Investment Manager Services Review

4. Quarterly Reports

(d) Budget Review

(e) Audit Status

5. Internal Audit

(f) Internal Audit Charter

(g) Lockbox Operations Audit Report

6. Mid-Year Financial Audit

7. Office of Resource Management Annual Report

Closed Session

Information covered under 5 U.S.C. 552b(c)(4) and (c)(9)(B).

Adjourn

CONTACT PERSON FOR MORE INFORMATION: Kimberly Weaver, Director, Office of External Affairs, (202) 942-1640.

Dated: October 20, 2016.
Megan Grumbine,
General Counsel, Federal Retirement Thrift Investment Board.

[FR Doc. 2016-25761 Filed 10-20-16; 4:15 pm]

BILLING CODE 6760-01-P